DEPARTMENT OF DEFENSE

Office of the Secretary

Continuing Collection; Comment Request

AGENCY: Office of the Assistant Secretary of Defense (Health Affairs), DoD.

ACTION: Notice.

SUMMARY: In compliance with Section 3506(c)(2)(A) of the Paperwork Reduction Act of 1995, the Office of the Assistant Secretary of Defense (Health Affairs) announces the extension of a currently approved collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received by August 4, 2003.

ADDRESSES: Written comments and recommendations on the continuing information collection should be sent to the TRICARE Management Activity, 5111 Leesburg Pike, Suite 810, Falls Church, VA. 22041-3206, Attn: Major Joann Kelsch.

FOR FURTHER INFORMATION CONTACT: To request more information on the continuation of this information collection, please write to the above address or contact TRICARE Management Activity, DHP Management Control and Financial Studies at 703-681-3492.

Title, Associated Form and OMB Number: Third Party Collection Program—Record of Other Health Insurance, DD Form 2569; OMB Number 0704-0323.

Needs and Uses: The information contained in the DD Form 2569 will be used to collect reimbursement from private insurers for medical care provided to family members of retirees and deceased Service members having health insurance. Such monetary benefits accruing to the Military Treatment Facility (MTF) will be used to enhance healthcare delivery in the MTF. Information will also be used by MTF staff and CHAMPUS Fiscal Intermediaries to determine eligibility for care, deductibles, and co-payments and by Health Affairs for program planning and management.

Affected Public: Family members of retirees and deceased Service members having health insurance.

Annual Burden Hours: 115,096 hours (.041 × 2,807,212).

Number of Respondents: 2,807,212.

Responses Per Respondent: 1.

Average Burden Per Response: .041 hrs (2.5 minutes).

Frequency: Annually or on occasion when insurance information changes.

SUPPLEMENTARY INFORMATION:

Summary of Information Collection

This is a reinstatement of a previously approved collection that will expire July 31, 2003.

The administration has placed increased emphasis upon recovery of health care expenses under the Federal Medical Care Recovery Act. Completion of this form, while increasing total burden hours, will aid in increasing revenues (O&M dollars), services, and operating efficiency and effectiveness within the Military Health Services System. This information is collected either during the inpatient stay admission and/or discharge process or during the visit when a patient presents for an outpatient procedure.

Dated: May 29, 2003.
Patricia L. Toppings,
Alternate OSD Federal Register Liaison Officer, Department of Defense.

[FR Doc. 03-14145 Filed 6-4-03; 8:45 am]

BILLING CODE 5001-08-M